FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 16, 2003.

A. Federal Reserve Bank of St. Louis (Randall C. Sumner, Vice President) 411 Locust Street, St. Louis, Missouri 63166-2034:

1. Russell W. Davis, David M. Davis, both of Mount Vernon, Illinois, James K. Davis, Salem, Illinois, the David M. Davis Family Trust, James K. Davis Family Trust, and Lynne M. Mills Family Trust, all of Mount Vernon, Illinois; to retain 76.74 percent of Dix Bancshares, Inc., and thereby indirectly retain voting shares of First State Bank of Dix, both of Dix, Illinois.

In connection with this notice, David M. Davis, Mount Vernon, Illinois; to acquire direct and indirect control of 53.90 percent of Dix Bancshares, Inc., and for James K. Davis, Salem, Illinois, to acquire direct and indirect control of 44.10 percent of Dix Bancshares, Inc.

Board of Governors of the Federal Reserve System, December 26, 2002.
Jennifer J. Johnson,
Secretary of the Board.

[FR Doc. 02-33045 Filed 12-31-02; 8:45 am]

BILLING CODE 6210-01-S